DEPARTMENT OF ENERGY

Federal Energy Regulatory Commission

[Docket No. CP12-523-000]

WBI Energy Transmission Company, Inc.; Notice of Request Under Blanket Authorization

Take notice that on September 17, 2012, WBI Energy Transmission, Inc. (WBI Energy), 1250 West Century Avenue, Bismarck, North Dakota 58506-5601, filed in Docket No. CP12-523-000, a prior notice request pursuant to sections 157.210 of the Commission's regulations under the Natural Gas Act (NGA). WBI Energy seeks authorization to install and operate mainline natural gas facilities, and to increase the Maximum Allowable Operating Pressure (MAOP) of a segment of mainline and associated laterals in McKenzie, Mountrail, and Williams Counties, North Dakota. WBI Energy proposes to perform these activities under its blanket certificate issued in Docket Nos. CP82-487-000, et al. [30 FERC ¶ 61,143 (1985)], all as more fully set forth in the application which is on file with the Commission and open to public inspection.

The filing may be viewed on the Web at http://www.ferc.gov using the “eLibrary” link. Enter the docket number excluding the last three digits in the docket number field to access the document. For assistance, contact FERC at FERCOnlineSupport@ferc.gov or call toll-free, (886) 208-3676 or TYY, (202) 502-8659.

Any questions regarding this application should be directed to Keith A. Tiggelaar, Director of Regulatory Affairs, WBI Energy Transmission, Inc., 1250 West Century Avenue, Bismarck, North Dakota, 58506-5601, or by calling (701) 530-1560 (telephone), keith.tiggelaar@wbienergy.com.

Any person or the Commission's Staff may, within 60 days after the issuance of the instant notice by the Commission, file pursuant to Rule 214 of the Commission's Procedural Rules (18 CFR 385.214) a motion to intervene or notice of intervention and, pursuant to section 157.205 of the Commission's Regulations under the NGA (18 CFR 157.205) a protest to the request. If no protest is filed within the time allowed therefore, the proposed activity shall be deemed to be authorized effective the day after the time allowed for protest. If a protest is filed and not withdrawn within 30 days after the time allowed for filing a protest, the instant request shall be treated as an application for authorization pursuant to section 7 of the NGA.

The Commission strongly encourages electronic filings of comments, protests, and interventions via the Internet in lieu of paper. See 18 CFR 385.2001(a) (1) (iii) and the instructions on the Commission's Web site (www.ferc.gov) under the “e-Filing” link. Persons unable to file electronically should submit an original and 14 copies of the protest or intervention to the Federal Energy Regulatory Commission, 888 First Street NE., Washington, DC 20426.

Dated: September 25, 2012.
Kimberly D. Bose,
Secretary.

[FR Doc. 2012-23939 Filed 9-27-12; 8:45 am]

BILLING CODE 6717-01-P